POSTAL REGULATORY COMMISSION

Sunshine Act Meetings

TIME AND DATE Wednesday, January 6, 2010 at 11 a.m.

PLACE: Commission conference room, 901 New York Avenue, NW., Suite 200, Washington, DC 20268-0001.

STATUS: Parts of this meeting will be open to the public. The rest of the meeting will be closed to the public.

MATTERS TO BE CONSIDERED: PORTIONS OPEN TO THE PUBLIC:

1. Review of postal-related legislative activity.

2. Reports on international activities.

3. Review of active cases.

4. Report on recent activities of Joint Periodical Task Force and status of report to the Congress pursuant to section 708 of the Postal Accountability and Enhancement Act (PAEA) of 2006.

5. Review of an internal assessment of Public Representative functions under the PAEA.

PORTIONS CLOSED TO THE PUBLIC:

6. Status of pending litigation (USPS v. PRC)

7. Personnel matters—consideration of Commission staff vacancies.

FOR FURTHER INFORMATION CONTACT: Stephen L. Sharfman, General Counsel, Postal Regulatory Commission, 901 New York Avenue, NW., Suite 200, Washington, DC 20268-0001, 202-789-6820 or stephen.sharfman@prc.gov.

Dated: December 23, 2009.
Shoshana M. Grove,
Secretary.

[FR Doc. E9-30879 Filed 12-24-09; 11:15 am]

BILLING CODE 7710-FW-S